DEPARTMENT OF HEALTH AND HUMAN SERVICES

Centers for Disease Control and Prevention

Disease, Disability, and Injury Prevention and Control Special Emphasis Panel (SEP): Conducting Public Health Research Through the Field Epidemiology and Laboratory Training Programs (FETPs/FELTPs), Funding Opportunity Announcement (FOA) GH11-001, Initial Review

In accordance with Section 10(a)(2) of the Federal Advisory Committee Act (Pub. L. 92-463), the Centers for Disease Control and Prevention (CDC) announces the aforementioned meeting:

Time and Date: 12:30 p.m.-3 p.m., April 13, 2011 (Closed).

Place: Teleconference.

Status: The meeting will be closed to the public in accordance with provisions set forth in Section 552b(c) (4) and (6), Title 5 U.S.C., and the Determination of the Director, Management Analysis and Services Office, CDC, pursuant to Public Law 92-463.

Matters to be Discussed: The meeting will include the initial review, discussion, and evaluation of applications received in response to “Conducting Public Health Research Through the Field Epidemiology and Laboratory Training Programs (FETPs/FELTPs), FOA GH11-001, initial review.”

Contact Person for More Information: Diana Bartlett, M.P.H., Scientific Review Officer, CDC, 1600 Clifton Road, N.E., MS-D72 (attn: Christine Morrison), Atlanta, Georgia 30333, Telephone: (404) 639-4938, E-mail dbartlett@cdc.gov.

The Director, Management Analysis and Services Office, has been delegated the authority to sign Federal Register notices pertaining to announcements of meetings and other committee management activities, for both the Centers for Disease Control and Prevention and the Agency for Toxic Substances and Disease Registry.

Dated: February 14, 2011.
Elaine L. Baker,
Director, Management Analysis and Services Office, Centers for Disease Control and Prevention.

[FR Doc. 2011-3709 Filed 2-17-11; 8:45 am]

BILLING CODE 4163-18-P